DEPARTMENT OF ENERGY

Federal Energy Regulatory Commission

[Docket No. RP02-201-000]

Colorado Interstate Gas Company; Notice of Proposed Changes in FERC Gas Tariff

March 20, 2001.

Take notice that on March 15, 2002, Colorado Interstate Gas Company (CIG) tendered for filing as part of its FERC Gas Tariff, First Revised Volume No. 1, the tariff sheets listed in Appendix A of the filing. The tariff sheets will become effective April 15, 2002.

CIG is filing to update its tariff consistent with recent Commission orders in other pipeline company proceedings concerning (1) the adjustment of rate components in discount agreements to achieve an overall agreed upon rate and (2) the specification of minimum pressure requirements. Additionally, CIG proposes to change certain sections to conform to prior revisions, correct tariff references, and delete obsolete language from its pro forma service agreements.

Any person desiring to be heard or to protest said filing should file a motion to intervene or a protest with the Federal Energy Regulatory Commission, 888 First Street, NE, Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-7206 Filed 3-25-02; 8:45 am]

BILLING CODE 6717-01-P